DEPARTMENT OF HEALTH AND HUMAN SERVICES

Announcement of Requirements and Registration for “popHealth Tools Development Challenge”

AGENCY: Office of the National Coordinator for Health Information Technology, HHS.

ACTION: Notice.

Authority: 15 U.S.C. 3719.

SUMMARY: The “popHealth Tools Development Challenge” tasks developers with creating applications that leverage the popHealth open source framework, existing functionality, standards, and sample datasets to improve patient care and provide greater insight into patient populations. Winning entries will extend the capabilities of popHealth, increasing its value to healthcare providers and EHR vendors.

The statutory authority for this challenge competition is Section 105 of the America COMPETES Reauthorization Act of 2010 (Pub. L. 111-358).

DATES: Effective on September 26, 2011.

FOR FURTHER INFORMATION CONTACT:

Adam Wong, 202-720-2866.

Wil Yu, 202-690-5920.

SUPPLEMENTARY INFORMATION:

Subject of Challenge Competition: popHealth is a valuable platform for reporting Meaningful Use quality measures, as well as being a powerful tool for providers to analyze their patient populations. With additional functionality, popHealth can become even more essential, driving adoption among healthcare providers and EHR vendors. Developers have the leeway to create popHealth applications and extensions based on any or all of the following concepts: Help providers improve patient safety; help providers use the quality measure calculations to better engage with patients; help providers address disparities in the care they provide to their patient populations; help providers engage patients and families; aggregate data from across multiple sites to allow public health entities to develop a more clearly defined picture of the health status and risk factors within their communities; visualize information in the popHealth system related to meaningful use measures; and/or target patients with high disease burden in need of early intervention.

Eligibility Rules for Participating in the Competition: To be eligible to win a prize under this challenge, an individual or entity:

(1) Shall have registered to participate in the competition under the rules promulgated by Office of the National Coordinator for Health Information Technology;

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment.

An individual or entity shall not be deemed ineligible because the individual or entity used Federal facilities or consulted with Federal employees during a competition if the facilities and employees are made available to all individuals and entities participating in the competition on an equitable basis.

Registered participants shall be required to agree to assume any and all risks and waive claims against the Federal Government and its related entities, except in the case of willful misconduct, for any injury, death, damage, or loss of property, revenue, or profits, whether direct, indirect, or consequential, arising from their participation in a competition, whether the injury, death, damage, or loss arises through negligence or otherwise.

Participants shall be required to obtain liability insurance or demonstrate financial responsibility, in amounts determined by the head of the Office of the National Coordinator for Health Information Technology, for claims by—

(1) A third party for death, bodily injury, or property damage, or loss resulting from an activity carried out in connection with participation in a competition, with the Federal Government named as an additional insured under the registered participant's insurance policy and registered participants agreeing to indemnify the Federal Government against third party claims for damages arising from or related to competition activities; and

(2) the Federal Government for damage or loss to Government property resulting from such an activity.

Participants must be teams of at least two people.

All participants are required to provide written consent to the rules upon or before submitting an entry.

DATES:

• Submission Period Begins: 12:01 a.m., EDT, September 26, 2011.

• Submission Period Ends: 11:59 p.m., EDT, February 3, 2012.

Registration Process for Participants:

To register for this challenge participants should:

• Access the http://www.challenge.gov Web site and search for the “popHealth Tools Development Challenge”.

• Access the ONC Investing in Innovation (i2) Challenge Web site at:

○ http://www.health2challenge.org/category/onc/.

○ A registration link for the challenge can be found on the landing page under the challenge description.

Amount of the Prize:

• First Prize: $75,000.

• Second Prize: $20,000.

• Third Prize: $5,000.

Awards may be subject to Federal income taxes and HHS will comply with IRS withholding and reporting requirements, where applicable.

Basis Upon Which Winner Will Be Selected:

The judging panel will make selections based upon the following criteria:

1. Ability to integrate with popHealth system and build upon existing functionality.

2. Impact on stakeholders.

3. Usability and design.

4. Creativity and Innovation.

Additional Information:

Ownership of intellectual property is determined by the following:

• Each entrant retains title and full ownership in and to their submission. Entrants expressly reserve all intellectual property rights not expressly granted under the challenge agreement.

• By participating in the challenge, each entrant hereby irrevocably grants to Sponsor and Administrator a limited, non-exclusive, royalty free, worldwide, license and right to reproduce, publically perform, publically display, and use the Submission to the extent necessary to administer the challenge, and to publically perform and publically display the Submission, including, without limitation, for advertising and promotional purposes relating to the challenge.

Dated: September 26, 2011.
Farzad Mostashari,
National Coordinator for Health Information Technology.

[FR Doc. 2011-25295 Filed 9-29-11; 8:45 am]

BILLING CODE 4150-45-P